DEPARTMENT OF JUSTICE

Antitrust Division

Notice Pursuant to the National Cooperative Research and Production Act of 1993—DVD Copy Control Association

Notice is hereby given that, on June 5, 2009, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Continental Automotive GmbH, Wetzlar, GERMANY; DVS Korea Co., Ltd., Kyungi-do, REPUBLIC OF KOREA; East European Authoring and Encoding Centre Ltd., Sofia, BULGARIA; Ever Best Industrial (H.K.) Limited, Kowloon, HONG KONG-CHINA; Everbest Technology Development Ltd., North Point, HONG KONG-CHINA; Forworid Electronics Co., Ltd., Taichung City, TAIWAN; Hong Kong ASA Multimedia Co., Ltd., Kowloon, HONG KONG-CHINA; Orbit Corporation, Los Angeles, CA; Tecunion Electronics Technology Ltd., Shenzhen, PEOPLE'S REPUBLIC OF CHINA; Ultra Source Technology Corp., Hong Kong, HONG KONG-CHINA; Unicorn Information Systems Co., Ltd., Seoul, REPUBLIC OF KOREA; Willette Acquisition Corp. dba Allied Vaughn, Minneapolis, MN; and Zhejiang Tianle Digital Electric Co., Ltd., Zhejiang, PEOPLE'S REPUBLIC OF CHINA have been added as parties to this venture.

Also, Beautiful Enterprise Co., Ltd., Kowloon, HONG KONGCHINA; Cinea, Inc., Richmond, VA; Dicentia A/S, Sakskobing, DENMARK; Evatone, Inc., Clearwater, FL; Hewlett-Packard Company, Cupertino, CA; KalosNett Co., Ltd., Seoul, REPUBLIC OF KOREA; Kawai Musical Instruments Nfg. Co., Ltd., Shizouka, JAPAN; New York Nickel LLC, Bohemia, NY; Pinnacle Systems, GmbH, Braunschweig, GERMANY; Protect Software GmbH, Dortmund, GERMANY; Protocall Technologies Incorporated, Commack, NY; ScientificAtlanta, Inc., Lawrenceville, GA; and Zhongshan Tomel Audio & Video Products Co., Ltd., Guangdong, PEOPLE'S REPUBLIC OF CHINA have withdrawn as parties to this venture. In addition, Homenema Disk Inc. has changed its name to Homenema Technology Inc., Taipei Hsien, TAIWAN.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on March 6, 2009. A notice was published in the Federal Register pursuant to Section 6(b) of the Act on April 20, 2009 (74 FR 17985).

Patricia A. Brink,
Deputy Director of Operations, Antitrust Division.

[FR Doc. E9-16698 Filed 7-14-09; 8:45 am]

BILLING CODE 4410-11-M